DEPARTMENT OF THE INTERIOR

National Park Service

[NPS-NCR-NACE-0411-7112; 3501-PZY]

Draft Anacostia Park Wetland and Resident Canada Goose Management Plan/Environmental Impact Statement

AGENCY: National Park Service, Interior.

ACTION: Notice of availability.

SUMMARY: Pursuant to the National Environmental Policy Act of 1969, 42 U.S.C. 4332(2)(C), the National Park Service (NPS) announces the availability of the Draft Anacostia Park Wetland and Resident Canada Goose Management Plan/Environmental Impact Statement (Plan/DEIS) for Anacostia Park (Park), Washington, DC. The draft Plan/DEIS evaluates the impacts of several management alternatives that address managing wetlands and resident Canada geese at the Park. It also assesses the impacts that could result from continuing the current management framework in the no action alternative. The selected alternative will describe the wetland management and Canada goose management strategies that will guide future actions at the Park for 15 years.

DATES: The NPS will accept comments on the Plan/DEIS for 60 days following publication by the U.S. Environmental Protection Agency (EPA) of the Notice of the Availability of the Draft Environmental Impact Statement. After the EPA Notice of Availability is published, the NPS will schedule public meetings during the comment period. Dates, times, and locations of these meetings will be announced in press releases, e-mail announcements, and on the NPS Planning, Environment, and Public Comment (PEPC) Web site for the project at http://www.parkplanning.nps.gov/ANAC .

ADDRESSES: Information will be available for public review and comment online at: http://www.parkplanning.nps.gov/ANAC. Copies of the Plan/DEIS will be available in the office of the Superintendent, National Capital Parks—East, 1900 Anacostia Drive, SE., Washington, DC 20020.

FOR FURTHER INFORMATION CONTACT: Chief of Resource Management Division, National Capital Parks—East headquarters in Anacostia Park at the address above or by telephone at (202) 690-5160.

SUPPLEMENTARY INFORMATION: Tidal wetland restoration efforts at Anacostia Park have been jeopardized by grazing resident Canada geese. Action is needed at this time to manage the restored wetlands at the Park. The Plan/DEIS will be an integrated tool designed to allow for the long-term planning and management for both wetlands and resident Canada geese at the Park.

This Plan/DEIS evaluates five alternatives—a No Action Alternative (A) and four Action Alternatives (B (preferred), C, D, and E). These are summarized briefly here. Other alternatives were explored but dismissed; these are discussed in some detail in the draft Plan/EIS.

• Alternative A—No Action—Park wetlands and the resident goose population would continue to be managed using the current wetland and goose management techniques which include: Invasive species management, trash management, public education, goose egg oiling, goose population monitoring, goose exclusion fencing, and wetland vegetation planting.

• Alternative B—Preferred—Very High Level of Wetland and Goose Management—The most aggressive wetlands management techniques would be combined with intensive goose management techniques. Proposed extensive wetland restoration opportunities could include: Managing invasive species, shoreline protection, restoration of tidal guts, and daylighting. Goose management techniques include: Lethal control, scare and harassment, habitat alteration, and reproduction control such as egg oiling.

• Alternative C—High Level of Wetlands Management with Moderate Level of Goose Management—This alternative combines aggressive wetlands management options with a moderate level of lethal goose management techniques. Some of the wetland management techniques could include managing invasive species and planting throughout the wetlands. The goose management techniques include: Less intensive population reduction than in alternative B; habitat modification by planting buffers along the shoreline; scare and harassment techniques in certain areas; and reproduction control.

• Alternative D—Low Level of Wetlands Management and Low Goose Management—Wetland management techniques include a removal of structures or obstacles resulting in severe erosion of the shoreline and wetland areas as well as management of invasive species. There would be no new wetland restoration or new cultural/educational efforts under this alternative. The goose management techniques would include no initial lethal resident goose population reduction activities; however, there could be a one-time population reduction if other goose management techniques, such as habitat modification and reproduction control, do not keep the goose population at the sustainable threshold level.

• Alternative E—Very High Level of Wetlands Management with Moderate Goose Management with No Lethal Control—Wetland management techniques include erosion control and invasive species management. The resident goose management techniques would have no initial or follow-up lethal control; however, habitat modification, scare and harassment, and reproductive control would be allowed.

You may submit your comments by any one of several methods. You may submit your comments online on the PEPC Web site at: http://www.parkplanning.nps.gov/ANAC. Comments can be mailed to Alex Romero, Superintendent, National Capital Parks—East, 1900 Anacostia Drive, SE., Washington, DC 20020. You may also contact the Superintendent by facsimile at (202) 690-1425. Finally, you may hand-deliver comments to the National Capital Parks—East headquarters in Anacostia Park at the address above. Before including your address, telephone number, electronic mail address, or other personal identifying information in your comment, you should be aware that your entire comment (including your personal identifying information) may be made publicly available at any time. While you can ask us in your comments to withhold your personal identifying information from public review, we cannot guarantee that we will be able to do so. We will make all submissions from organizations or businesses, from individuals identifying themselves as representatives or officials, of organizations or businesses, available for public inspection in their entirety.

Dated: March 18, 2011.
Woody Smeck,
Acting Regional Director, National Capital Region.

[FR Doc. 2011-18829 Filed 7-25-11; 8:45 am]

BILLING CODE 4312-JK-P